DEPARTMENT OF THE TREASURY

Internal Revenue Service

26 CFR Parts 1, 54, 301 and 602

[REG-102740-02]

RINs 1545-BA46, 1545-AW67, 1545-BA08, 1545-AX52, 1545-AX12, 1545-AY49, 1545-AY12, 1545-BA52, 1545-AW44, 1545-BA43

Miscellaneous Federal Tax Matters; Hearings

AGENCY: Internal Revenue Service (IRS), Treasury.

ACTION: Proposed Rulemaking; changes of dates and/or locations of public hearings.

SUMMARY: This document changes some of the dates and/or locations of public hearings for several proposed regulations. The proposed regulations that are affected are identified in the table set out in this document.

FOR FURTHER INFORMATION CONTACT: Guy R. Traynor, Regulations Unit, Associate Chief Counsel, (Income Tax & Accounting), (202) 622-7180 (not a toll-free number).

SUPPLEMENTARY INFORMATION:

Background

On various dates from March of 2002 through May of 2002, a number of notices of public hearings were published in the Federal Register announcing the scheduling of public hearings. This document changes the dates and/or locations of some of those public hearings.

Many of the public hearings are being held at the Internal Revenue Service, National Office, 1111 Constitution Avenue NW., Washington, DC. For these hearings, use the Constitution Avenue entrance.

One hearing is being held in the Internal Revenue Service Auditorium, New Carrollton, 5000 Ellin Road, Lanham, MD.

The new hearing dates and locations are listed as follows:

Project No. | Title of regulation | Date published FR cite | New hearing date | New location of hearing
REG-102740-02 | Loss Limitation Rules | March 12, 2002 (67 FR 11070) | July 19, 2002 | Room 2615.
REG-165706-01 | Obligations of States & Political Subdivisions | April 10, 2002 (67 FR 17309) | August 7, 2002 | Room 2615.
REG-136193-01 | Notice of Significant Reduction in the Rate of Future Benefit Accrual | April 23, 2002 (67 FR 19713) | No change | Room 4718.
REG-105885-99 | Compensation Deferred Under Eligible Deferred Compensation Plans | May 8, 2002 (67 FR 30826). | August 29, 2002 | Room 2615.
REG-118861-00 | Application of Section 338 to Insurance Companies | March 8, 2002 (67 FR 10640) | No change | Room 6718.
REG-105369-00, REG-113526-98 | Arbitrage & Private Activity Restrictions Applicable to Tax-exempt Bonds Issued by State and Local Governments | April 17, 2002 (67 FR 18835) | September 25, 2002 | Room 2615.
REG-105316-98, REG-161424-01 | Information Reporting for Payments of Qualified Tuition and Payments of Interest on Qualified Education Loans | April 29, 2002 (67 FR 20923) | No change | Room 4718.
REG-103823-99 | Guidance on Cost Recovery Under the Income Forecast Method | May 31, 2002 (67 FR 38025) | No change | Internal Revenue Service Auditorium, New Carrollton Building, 5000 Ellin Road, Lanham, MD 20706.

Cynthia E. Grigsby,
Chief, Regulations Unit, Associate Chief Counsel (Income Tax & Accounting).

[FR Doc. 02-16396 Filed 6-27-02; 8:45 am]

BILLING CODE 4830-01-P